DEPARTMENT OF TRANSPORTATION

Federal Aviation Administration

Proposed Permanent Closure of Mason County Airport, Point Pleasant, West Virginia

AGENCY: Federal Aviation Administration (FAA), DOT.

ACTION: Notice of request for comment on the proposed permanent closure of Mason County Airport, Point Pleasant, West Virginia.

SUMMARY: The FAA proposes to rule and invites public comment on Mason County's request to permanently close Mason County Airport, West Virginia. The permanent closure of Mason County Airport involves the FAA's release of the federally obligated airport property from all federal obligations enabling the disposal of the entirety of the 125.56 acres of airport property. Most of the airport property was acquired with federal financial assistance via Federal Aid-Airport Program Grant 9-46-016-C902 and the remaining acreage was acquired from the General Services Administration. Given the negligible aeronautical use of the airport, the fact that is located in close proximity to other federally obligated airports, and the fact that the sales proceeds of the airport will be provided to a nearby federally obligated airport with superior facilities, it is anticipated that the closure of Mason County Airport will result in a net benefit to civil aviation.

DATES: Comments must be received on or before January 26, 2026.

FOR FURTHER INFORMATION CONTACT: Comments on this application may be mailed or delivered to the following address:

Rick L. Handley, President, Mason County Commission, 200 Sixth Street Suite 2, Point Pleasant, WV 25550, (703) 487-3980

and at the FAA Beckley Airports Field Office:

Matthew Di Giulian, Manager, Beckley Airports Field Office, 176 Airport Circle, Room 101, Beaver, WV 25183, (609) 916-5794

SUPPLEMENTARY INFORMATION: In accordance with the Wendell H. Ford Aviation Investment and Reform Act for the 21st Century (AIR 21), Public Law 106-181 (Apr. 5, 2000; 114 Stat. 61), this notice must be published in the Federal Register 30 days before the Secretary may waive any condition on federally acquired land on a federally obligated airport. The following is a brief overview of the request.

Mason County has submitted a request seeking FAA approval for the permanent closure of Mason County Airport, Point Pleasant, West Virginia including the FAA's release of the airport from all federal obligations, to allow for the disposal of the entire 125.56 acres of federally obligated airport property. Most of the airport property was acquired via Grant No. 9-46-016-C902, executed in 1969, through which the FAA provided 50% of the cost of the acquisition of 124.28 acres of property. The remaining 1.28 acres was acquired from the General Services Administration (GSA) in 1967.

Mason County Airport has low numbers of both based aircraft and annual operations, as well as, timeworn and deteriorating facilities. Additionally, the airport is located in fairly close proximity to two other federally obligated airports (Gallia Meigs Airport, Gallipolis, Ohio and Jackson County Airport, Millwood, West Virginia). As a condition of the FAA's release of Mason County from all federal obligations the proceeds of the sale of the airport property, as well as the unamortized portion of a grant received by Mason County for the airport in 2015, will be provided to Jackson County Airport. The owner of Jackson County Airport has agreed to use the proceeds of the sale in a manner approved by the Federal Aviation Administration with the goal of accommodating the former users of Mason County Airport. It is anticipated that the former users of Mason County Airport will be able to take advantage of Jackson County Airport's superior facilities and aeronautical services, compared to Mason County Airport, including Jackson County Airport's full-length parallel taxiway, fuel services, flight instruction, and a newly built terminal. The West Virginia Department of Transportation's Division of Multimodal Transportation Systems has indicated that it supports the proposed release and closure.

Issued in Beckley, West Virgina.
Matthew DiGiulian,
Manager, Beckley Airports Field Office.

[FR Doc. 2025-23097 Filed 12-16-25; 8:45 am]

BILLING CODE 4910-13-P